DEPARTMENT OF LABOR

Mine Safety and Health Administration

Petitions for Modification

The following parties have filed petitions to modify the application of existing safety standards under section 101(c) of the Federal Mine Safety and Health Act of 1977 and 30 CFR part 44.

1. Excel Coal Company

[Docket No. M-2006-057-C]

Excel Coal Company, RD #2 Box 665, Shamokin, Pennsylvania 17872 has filed a petition to modify the application of 30 CFR 75.1400 (Hoisting equipment; general) to its Three S. Slope Mine (MSHA I.D. No. 36-09309) located in Northumberland County, Pennsylvania. The petitioner proposes to use the slope (gunboat) to transport persons in shafts and slopes using an increased rope strength/safety factor and secondary safety rope connection instead of using safety catches or other no less effective devices. The petitioner asserts that the proposed alternative method would provide at least the same measure of protection as the existing standard.

2. Excel Coal Company

[Docket No. M-2005-058-C]

Excel Coal Company, RD #2 Box 665, Shamokin, Pennsylvania 17872 has filed a petition to modify the application of 30 CFR 75.1100-2(a)(2) (Quantity and location of firefighting equipment) to its Three S. Slope Mine (MSHA I.D. No. 36-09309) located in Northumberland County, Pennsylvania. The petitioner proposes to use portable fire extinguishers only to replace existing requirements where rock dust, water cars, and other water storage equipped with three, 10 quart pails is not practical. The petitioner asserts that equivalent fire protection will be provided for the mine with two portable fire extinguishers near the slope bottom and an additional portable fire extinguisher within 500 feet of the working face and that the proposed alternative method would provide at least the same measure of protection as the existing standard.

3. Excel Coal Company

[Docket No. M-2006-059-C]

Excel Coal Company, RD #2 Box 665, Shamokin, Pennsylvania 17872 has filed a petition to modify the application of 30 CFR 75.1200(d) & (i) (Mine map) to its Three S. Slope Mine (MSHA I.D. No. 36-09309) located in Northumberland County, Pennsylvania. The petitioner proposes to use cross-sections instead of contour lines through the intake slope at locations of rock tunnel connections between veins, and at 1,000 foot intervals of advance from the intake slope. In addition, the petitioner proposes to limit the required mapping of the mine workings above and below to those present within 100 feet of the vein being mined except when veins are interconnected to other veins beyond the 100-foot limit through rock tunnels. The petitioner states that due to the steep pitch encountered in mining anthracite coal veins, contours provide no useful information and their presence would make portions of the map illegible. The petitioner further states that use of cross-sections in lieu of contour lines has been practiced since the late 1800's and provides critical information about the spacing between veins and proximity to other mine workings, which fluctuate considerably. Additionally, they state that the mine workings above and below are usually inactive and abandoned, and therefore, are not subject to changes during the life of the mine. Petitioner asserts that when evidence indicates that prior mining was conducted on a vein above or below and research exhausts the availability of mine mapping, the vein will be considered to be mined and flooded and appropriate precautions will be taken under 30 CFR 75.388, when possible. Thus, when potential hazards exist and mine drilling capabilities limit penetration, petitioner will drill surface boreholes to intercept the mine workings and will analyze the results prior to mining in the affected area. The petitioner asserts that the proposed alternative method would provide at least the same measure of protection as the existing standard.

4. Excel Coal Company

[Docket No. M-2006-060-C]

Excel Coal Company, RD #2 Box 665, Shamokin, Pennsylvania 17872 has filed a petition to modify the application of 30 CFR 49.2(b) (Availability of mine rescue teams) to its Three S. Slope Mine (MSHA I.D. No. 36-09309) located in Northumberland County, Pennsylvania. The petitioner requests a modification of the existing standard to permit the reduction of two mine rescue teams with five members and one alternate each, to two mine rescue teams of three members with one alternate for either team. The petitioner states that the mine is small and an attempt to utilize five or more rescue team members in the mine's confined working places would result in a diminution of safety to both the miners at the mine and the members of the rescue team. The petitioner asserts that the proposed alternative method would provide at least the same measure of protection as the existing standard.

5. Big River Mining, LLC

[Docket No. M-2006-061-C]

Big River Mining, LLC, P.O. Box 186, New Haven, West Virginia 25626 has filed a petition to modify the application of 30 CFR 75.900 (Low- and medium-voltage circuits serving three-phase alternating current equipment; circuit breakers) to its Broad Run Mine (MSHA I.D. No. 46-09136) located in Mason County, West Virginia. The petitioner proposes to use a contactor in certain locations in series with the circuit breaker. The petitioner states that: (1) The contactors are designed and rated for switching and will switch a great number of times more than a circuit breaker without failure and are more reliable than circuit breakers for switching when used within their rating; (2) many of the installations use a circuit breaker in series with a contactor, but Big River Mining would like to use the circuit breaker for short circuit; (3) the contactor may be equipped to provide undervoltage, grounded phase protection, overload protection, and other protective functions normally provided by the circuit breaker; and (4) the contactors would provide undervoltage, grounded phase, overload, and monitor the grounding conductors for low- and medium-voltage power circuits serving three-phase alternating current equipment using the following special terms and conditions: (a) The nominal voltage of the power circuits(s) will not exceed 995 volts; (b) the nominal voltage of the control circuit(s) and audible alarms units will not exceed 120 volts; and (c) the contactor will be built into the same enclosure as the circuit breakers. Further details of the terms and conditions are listed in the petition for modification and are available upon request. The petitioner further states that the proposed alternative method would not be implemented until all qualified persons who perform work on the equipment and the circuits have received training in the safe maintenance procedures and terms and conditions of the Proposed Decision and Order. The petitioner asserts that the proposed alternative method would provide at least the same measure of protection as the existing standard.

6. Round Mountain Gold Corporation

[Docket No. M-2006-005-M]

Round Mountain Gold Corporation, P.O. Box 480, Round Mountain, Nevada 89045 has filed a petition to modify the application of 30 CFR 56.6309(b) (Fuel oil requirements for ANFO) to its Smoke Valley Common Operation (MSHA I.D. No. 26-00594) located in Nye County, Nevada. The petitioner proposes to install a commercially manufactured system (a Doerschneider oil blender) specifically engineered to blend recycled oil with diesel fuel in the manufacturing process for ANFO. The resulting blend of recycled oils and diesel fuel will be used to manufacture ammonium nitrate-fuel oil (ANFO) for blasting. Further details of the terms and conditions are listed in the petition for modification and are available upon request. The petitioner asserts that the proposed alternative method would provide at least the same measure of protection as the existing standard.

Request for Comments

Persons interested in these petitions are encouraged to submit comments via e-mail to Standards-Petitions@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before October 26, 2006. Copies of the petitions are available for inspection at that address.

Dated at Arlington, Virginia this 19th day of September 2006.
Ria Moore Benedict,
Deputy Director, Office of Standards, Regulations, and Variances.

[FR Doc. 06-8248 Filed 9-25-06; 8:45 am]

BILLING CODE 4510-43-P